DEPARTMENT OF TRANSPORTATION

Federal Transit Administration

National Public Transportation/Transit-Oriented Development (TOD) Technical Assistance Ladders of Opportunity Initiative

AGENCY: Federal Transit Administration (FTA), DOT.

ACTION: Notice of funding opportunity and request for proposals (RFP).

SUMMARY: The Federal Transit Administration (FTA) announces a Notice of Funding Opportunity and Request for Proposals (RFP) for a new National Public Transportation/TOD Technical Assistance Initiative, which supports the Ladders of Opportunity initiative of the President and the Secretary of Transportation by providing technical assistance for transit-oriented development activities around public transportation stations, including technical assistance to economically distressed communities across the country. FTA has budgeted up to $4,000,000 over a four-year period and seeks proposals that will demonstrate the ability to organize a technical assistance team with practical expertise in a range of disciplines including public transportation, transit-oriented development, land use, urban planning, affordable housing, environmental justice and community-based economic development. This announcement is available on the FTA's Web site at: www.fta.gov.

This Notice of Funding Opportunity and RFP are posted in the FIND module of the government-wide electronic grants Web site at http://www.grants.gov.

DATES: Complete proposals are due by 11:59 p.m. EST on April 10, 2015.

ADDRESSES: All proposals must be submitted electronically through the GRANTS.GOV “APPLY” function. All entities intending to apply should initiate the process of registering on the GRANTS.GOV Web site immediately to ensure completion of registration before the submission deadline. Instructions for applying can be found in the “FIND” module of GRANTS.GOV. Mail and fax submissions will not be accepted.

FOR FURTHER INFORMATION CONTACT: For general program information, as well as proposal-specific questions, contact Kimberly Gayle at Kimberly.Gayle@dot.gov and (202) 366-1429. A TDD is available at 1-800-877-8339 (TDD/FIRS).

SUPPLEMENTARY INFORMATION:

I. Funding Opportunity Description

A. Authority

49 U.S.C. 5314 authorizes FTA to enter into contracts, cooperative agreements and other agreements to carry out a range of technical assistance activities to improve public transportation. FTA has identified $4,000,000 authorized under SAFETEA-LU, and will fund up to $1,000,000 for the first year, with plans to provide up to $3 million in additional funding for the remaining three years. The amount of funding that FTA will provide for each of the three subsequent years will be dependent upon annual performance reviews. There are no cost-sharing requirements for these funds.

B. Strategic Goals and Objectives

In this solicitation, FTA seeks proposals to provide technical assistance through the development of tools, guidance, and other resources for enhancing TOD within transportation corridors and around public transportation stations, including economically distressed areas.

This National Public Transportation/TOD Technical Assistance Initiative will build upon FTA's prior research, planning, technical assistance, and training efforts through the Transit Cooperative Research Program, the National Transit Institute and other outreach. The strategic goals of the initiative are: (1) Economic Development; (2) Equity and Quality of Life; and (3) Outreach, Education, and Facilitation.

C. Eligible Proposers

Eligible proposers are national non-profit organizations with technical expertise in public transportation, transit-oriented development, land use, urban planning, public finance, affordable housing, environmental justice and community-based economic development. FTA will award one (1) Cooperative agreement that will be between FTA and the selected proposer, which must have a substantial interest in the project and must not simply act as a pass-through for funds. The selected proposer will be directly responsible for the delivery of all services and products. Individuals, for-profit entities, public and Federal agencies are not eligible to apply directly for this solicitation. However, individuals, for-profit entities, public and Federal agencies are eligible to participate as third parties under the direction and leadership of eligible proposers.

II. Proposal Submission

Complete proposals must be submitted electronically through the GRANTS.GOV Web site by 11:59 EST on April 10, 2015. Late proposals will not be accepted. Proposers are encouraged to begin the process of registration on the GRANTS.GOV site well in advance of the submission deadline. Please note that the Funding Opportunity Number is DOT-FTA-TODTA-FY2015. The Catalog of Federal Domestic Assistance (CFDA) Number is 20.507.

Therese W. McMillan,
Acting Administrator.

[FR Doc. 2015-02807 Filed 2-10-15; 8:45 am]

BILLING CODE P